FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date of this notice appears in the Federal Register.

Agreement No.: 010955-008.

Title: ACL/H-L Reciprocal Space Charter and Sailing Agreement.

Parties: Atlantic Container Line AB and Hapag-Lloyd Container Line GmbH.

Filing Party: Wayne R. Rohde, Esq., Sher & Blackwell, LLP, 1850 M Street, NW., Suite 900, Washington, DC 20036.

Synopsis: The amendment deletes the capacity rationalization authority contained in the agreement.

Agreement No.: 011654-012.

Title: Middle East Indian Subcontinent Discussion Agreement.

Parties: American President Lines; A.P. Moller-Maersk A/S; China Shipping Navigation Co., Ltd. d/b/a Indotrans; CMA CGM SA; Contship Containerlines, a division of CP Ships (UK) Ltd.; P&O Nedlloyd Limited; The National Shipping Company of Saudi Arabia; United Arab Shipping Company (S.A.G.).

Filing Party: Wayne R. Rohde, Esq., Sher & Blackwell, LLP, 1850 M Street, NW., Suite 900, Washington, DC 20036.

Synopsis: The amendment adds The China Shipping Navigation Co., Ltd. d/b/a Indotrans as a party to the agreement.

Agreement No.: 011728-001.

Title: Maersk Sealand/APL Mediterranean Slot Charter Agreement.

Parties: A.P. Moller-Maersk A/S; American President Lines, Ltd.; and APL Co. Pte Ltd.

Filing Party: Wayne R. Rohde, Esq., Sher & Blackwell, LLP, 1850 M Street, NW., Washington, DC 20036.

Synopsis: The agreement revises the name of Maersk Sealand.

Agreement No.: 011786-005.

Title: Zim/Great Western Agreement.

Parties: Zim Integrated Shipping Services, Ltd. and Great Western Steamship Company.

Filing Party: Wayne R. Rohde, Esq., Sher & Blackwell, LLP, 1850 M Street, NW., Suite 900, Washington, DC 20036.

Synopsis: The amendment revises the space allocations under the agreement.

Agreement No.: 011910.

Title: HSDG/APL Space Charter Agreement.

Parties: APL Co. Pte Ltd and Hamburg-Sud.

Filing Party: Wayne R. Rohde, Esq., Sher & Blackwell, LLP, 1850 M Street, NW., Washington, DC 20036.

Synopsis: The agreement authorizes HSDG to charter space to APL on its vessels in the trade between the U.S. East Coast and the East Coast of South America.

By order of the Federal Maritime Commission.
Karen V. Gregory,
Assistant Secretary.

[FR Doc. 05-6823 Filed 4-5-05; 8:45 am]

BILLING CODE 6730-01-P